DEPARTMENT OF HOMELAND SECURITY

Coast Guard

33 CFR Part 100

[Docket No. USCG-2019-0735]

Special Local Regulations; Ironman Triathlon, Augusta, GA

AGENCY: Coast Guard, DHS.

ACTION: Notice of enforcement of regulation.

SUMMARY: The Coast Guard will enforce special local regulations for the Ironman Triathlon in Augusta, Georgia on September 29, 2019, to provide for the safety of life on navigable waterways during this event. Our regulation for marine events within the Seventh Coast Guard District identifies the regulated area for this event in Augusta, GA. During the enforcement periods, the operator of any vessel in the regulated area must comply with directions from the Patrol Commander or any Official Patrol displaying a Coast Guard ensign.

DATES: The regulation in 33 CFR 100.701, Table to § 100.701(f)(3) will be enforced from 6:30 a.m. until 11:30 a.m. on September 29, 2019.

FOR FURTHER INFORMATION CONTACT: If you have questions about this notice of enforcement, call or email MST1 Rachel Crowe, Marine Safety Unit Savannah Office of Waterways Management, U.S. Coast Guard; telephone 912-652-4353, extension 243, or email Rachel.M.Crowe@uscg.mil.

SUPPLEMENTARY INFORMATION: The Coast Guard will enforce special local regulations in 33 CFR 100.701 for the Ironman Triathlon regulated area listed in Table to § 100.701(f)(3)from 6:30 a.m. until 11:30 a.m. on September 29, 2019.

This action is being taken to provide for the safety of life on navigable waterways during this event. Our regulation for marine events within the Seventh Coast Guard District, § 100.701, specifies the location of the regulated area for the Ironman Triathlon which encompasses portions of the Savannah River and its branches in Savannah, GA. During the enforcement periods, as reflected in 33 CFR 100.701(c), if you are the operator of a vessel in the regulated area you must comply with directions from the Patrol Commander or any Official Patrol displaying a Coast Guard ensign. The Coast Guard may be assisted by other Federal, State, or local law enforcement agencies in enforcing this regulation.

In addition to this notice of enforcement in the Federal Register, the Coast Guard will provide notice of the regulated area via Local Notice to Mariners, Broadcast Notice to Mariners, and on-scene designated representatives.

Dated: September 16, 2019.
J.A. Coleman,
Lieutenant Commander, U.S. Coast Guard, Acting Captain of the Port Savannah.

[FR Doc. 2019-20330 Filed 9-18-19; 8:45 am]

BILLING CODE 9110-04-P